AGENCY FOR INTERNATIONAL DEVELOPMENT

Bureau for Democracy, Conflict and Humanitarian Assistance; Office of Food for Peace; Announcement of Draft Food for Peace P.L. 480 Title II Program Policies and Proposal Guidelines (FY08)

Notice

Pursuant to the Agricultural Trade Development and Assistance Act of 1954 (Pub. L. 480, as amended), notice is hereby given that the Draft Food for Peace P.L. 480 Title II Program Policies and Proposal Guidelines (FY 08) are being made available to interested parties for the required thirty (30) day comment period.

Individuals who wish to receive a copy of these draft guidelines should contact: Office of Food for Peace, U.S. Agency for International Development, RRB 7.06-136, 1300 Pennsylvania Avenue, NW., Washington, DC 20523-7600. The draft guidelines may also be found at http://www.usaid.gov/our_work/humanitarian_assistance/ffp/. Individuals who have questions or comments on the draft guidelines should contact both Juli Majernik (at the above address, by phone at (202) 712-4088, or by e-mail at jmajernik@usaid.gov) and copy AMEX International, Inc., at ffpdocs@amexdc.com. The thirty-day comment period will begin on the date that this announcement is published in the Federal Register.

Juli Majernik,
Office of Food for Peace, Bureau for Democracy, Conflict and Humanitarian Assistance.

[FR Doc. E7-15979 Filed 8-14-07; 8:45 am]

BILLING CODE 6116-01-P